Proclamation 10248 of August 31, 2021

National Wilderness Month, 2021

By the President of the United States of America

A Proclamation

America's public lands and waters, awe-inspiring landscapes, and cultural sites reflect a deep and abiding connection to our natural heritage. Our lands and waters are rich with diverse plant and animal life, and we are privileged to be able to enjoy irreplaceable national treasures that amaze us, inspire us, fill us with pride, support our lives and livelihoods, and belong to all of us in equal measure.

During National Wilderness Month, we affirm that our Nation's public lands and waters must be accessible to all Americans, we recognize that our lands and waters can revitalize the soul and solidify our respect for the natural wonders that surround us and the earth we share, and we recommit to their preservation and protection, today and for future generations.

The Wilderness Act, signed into law by President Lyndon B. Johnson in 1964, opened a new chapter in American conservation by creating the National Wilderness Preservation System. The primary goal of the act is to preserve the places “where the earth and its community of life are untrammeled.” Today, the National Wilderness Preservation System includes more than 800 wilderness areas spanning more than 111 million acres. These wilderness areas are located within national forests, parks, wildlife refuges, and conservation lands and waters. During the COVID-19 pandemic, many Americans turned to these areas for physical recreation, mental well-being, and inspiration, and our public lands and waters became places of healing and sanctuary.

But our natural wonders are at risk. Now more than ever, we must come together to combat the climate crisis and unprecedented acceleration of species extinction, to protect and conserve our great outdoors before it is too late. Since taking office, I have recommitted the United States to the Paris Climate Agreement, pushed for stronger action to cut greenhouse gas pollution, and resolved to strengthen our resilience against rising temperatures. Additionally, my Administration's historic “America the Beautiful” initiative sets a national conservation goal to invest in, conserve, connect, and restore at least 30 percent of the Nation's lands and waters by 2030. These diverse landscapes and waterways are vital in so many ways: they provide homes to fish and wildlife, and hold resources that sustain our own lives, counteract the damaging impacts of climate change, and underpin our global economy.

We also recognize that not all Americans have access to our public lands. My Administration is committed to ensuring that all peoples and communities have clean air and clean water, and receive the additional physical, spiritual, and economic benefits that our great wilderness provides. As the original stewards of these lands, Tribal Nations and Indigenous communities have a sacred connection and deep understanding of our Nation's wilderness areas, and the history of America's public lands has too often involved broken promises to the Native peoples who have lived on them since time immemorial. I am committed to working in partnership with Tribal, State, and local partners to find solutions to our most pressing conservation and stewardship challenges, and to honoring the special relationship of Tribes to their ancestral sacred lands. This work is urgent.

During National Wilderness Month, let us strengthen our connection to the American wilderness areas, support their designation and protection, and work to preserve the stories they tell, the memories they create, and the heritage they reflect for all Americans for generations to come.

NOW, THEREFORE, I, JOSEPH R. BIDEN JR., President of the United States of America, by virtue of the authority vested in me by the Constitution and the laws of the United States, do hereby proclaim September 2021 as National Wilderness Month. I encourage all Americans to experience our Nation's outdoor heritage, to recreate responsibly and to leave no trace, to celebrate the value of preserving an enduring resource of wilderness, and to strengthen our commitment to protecting these vital lands and waters now and for future generations.

IN WITNESS WHEREOF, I have hereunto set my hand this thirty-first day of August, in the year of our Lord two thousand twenty-one, and of the Independence of the United States of America the two hundred and forty-sixth.

[FR Doc. 2021-19329

Filed 9-2-21; 11:15 am]

Billing code 3295-F1-P